DEPARTMENT OF ENERGY

National Petroleum Council; Notice of Open Meeting; Correction

AGENCY: Department of Energy.

ACTION: Notice of open meeting correction.

On June 8, 2005, the Department of Energy published a notice of open meeting announcing a meeting of the National Petroleum Council 70 FR 33464. In that notice, the meeting scheduled on June 22, 2005, was scheduled to start at 9 a.m. Today's notice is announcing that due to the exceptional circumstance of an unforeseen and unavoidable scheduling conflict the meeting will start at 7:30 a.m.

Issued in Washington, DC on June 17, 2005.
Rachel M. Samuel,
Deputy Advisory Committee Management Officer.

[FR Doc. 05-12341 Filed 6-17-05; 2:27 pm]

BILLING CODE 6450-01-P